DEPARTMENT OF EDUCATION

National Assessment Governing Board; Meeting

AGENCY: U.S. Department of Education, National Assessment Governing Board.

ACTION: Notice of open and closed meeting sessions.

SUMMARY: This notice sets forth the schedule and proposed agenda for the upcoming meeting of the National Assessment Governing Board (Board) and also describes the specific functions of the Board. Notice of this meeting is required under Section 10(a)(2) of the Federal Advisory Committee Act. This notice is issued to provide members of the general public with an opportunity to attend and/or provide comments. Individuals who will need special accommodations in order to attend the meeting (e.g. interpreting services, assistive listening devices, materials in alternative format) should notify Munira Mwalimu at 202-357-6938 or at Munira.Mwalimu@ed.gov no later than November 19, 2012. We will attempt to meet requests after this date but cannot guarantee availability of the requested accommodation. The meeting site is accessible to individuals with disabilities.

DATES: November 29-December 1, 2012.

Times:

November 29: Committee Meetings:

Ad Hoc Committee on NAEP Background Information: 2:00 p.m.-4:00 p.m.

Executive Committee: Open Session: 4:30 p.m.-5:30 p.m.; Closed Session: 5:30 p.m.-6:00 p.m.

November 30: Full Board and Committee Meetings:

Full Board: Open Session: 8:30 a.m.-9:20 a.m.; Closed Session: 12:15 p.m.-1:45 p.m.; Open Session: 2:00 p.m.-4:15 p.m.

Committee Meetings:

Assessment Development Committee (ADC): Open Session: 9:30 a.m.-10:40 a.m.; Closed Session: 10:40 a.m.-12:00 p.m.

Reporting and Dissemination Committee (R&D): Open Session: 9:30 a.m.-12:00 p.m.

Committee on Standards, Design and Methodology (COSDAM): Open Session: 9:30 a.m. -10:45 a.m.; Closed Session: 10:45 a.m.-11:50 p.m.; Open Session: 11:50 a.m.-12:00 p.m.

December 1: Full Board and Committee Meetings:

Nominations Committee: Closed Session: 7:15 a.m.-8:15 a.m.

Full Board: Closed Session: 8:30 a.m.-10:00 a.m.; Open Session: 10:15 a.m.-12:00 p.m.

Location: St. Regis Hotel, 923 16th and K Streets NW., Washington, DC 20006.

FOR FURTHER INFORMATION CONTACT: Munira Mwalimu, Executive Officer, National Assessment Governing Board, 800 North Capitol Street NW., Suite 825, Washington, DC 20002-4233, Telephone: (202) 357-6938.

SUPPLEMENTARY INFORMATION: The National Assessment Governing Board (Board) is established under section 412 of the National Education Statistics Act of 1994, as amended.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public.

On November 29, 2012, the Ad Hoc Committee on Background Information will meet in open session from 2:00 p.m. to 4:00 p.m. The Executive Committee will convene in open session from 4:30 p.m. to 5:30 p.m. and thereafter in closed session from 5:30 p.m. to 6:00 p.m.

During the closed session, the Executive Committee will receive and discuss the current procurement plans and independent government cost estimates from the National Center for Education Statistics (NCES) staff for proposed item development, data collection, scoring and analysis, and reporting of National Assessment of Educational Progress (NAEP) results for 2013-2017, and their implications on future NAEP activities. The discussion of independent government cost estimates for the NAEP 2013-2017 contracts is necessary for ensuring that NAEP contracts meet congressionally mandated goals and adhere to Board policies on NAEP Assessments available at www.nagb.org/policies.html. This part of the meeting must be conducted in closed session because public disclosure of this information would likely have an adverse financial effect on the NAEP program by providing contractors attending an unfair advantage in procurement and contract negotiations for NAEP. Discussion of this information would be likely to significantly impede implementation of a proposed agency action if conducted in open session. Such matters are protected by exemption 9(B) of section 552b(c) of Title 5 U.S.C.

On November 30, 2012, the full Board will meet in open session from 8:30 a.m. to 9:20 a.m., followed by a closed session from 12:15 p.m. to 1:45 p.m., and an open session from 2:00 p.m. to 4:15 p.m.

From 8:30 a.m. to 9:20 a.m. on November 30, the Board will review and approve the November 29-December 1, 2012 meeting agenda and meeting minutes from the August 2012 Board meeting. Thereafter, the Chairman will introduce new Board members followed by remarks from the new members and the Chairman.

On November 30, 2012 from 8:50 a.m. to 9:20 a.m., the Executive Director of the Governing Board will provide a report to the Board, followed by updates from the Commissioner of the National Center for Education Statistics (NCES) and the Director of the Institute of Education Sciences (IES). Following these sessions, the Board will recess for Committee meetings from 9:30 a.m. to 12:00 p.m. The Reporting and Dissemination Committee will meet in open session and the Assessment Development Committee and the Committee on Standards, Design and Methodology will meet in open and closed sessions as described below.

On November 30, 2012, the Assessment Development Committee will meet in open session from 9:30 a.m. to 10:40 a.m. and in closed session from 10:40 a.m. to 12:00 p.m. During the closed session, ADC members will review secure science interactive computer tasks (ICTs) and test items for the 2014 pilot test in preparation for the 2015 NAEP science assessment. The review of secure ICTs for grades 4, 8, and 12 must be conducted in closed session because the ADC members will be provided with secure items and materials which are not yet available for release to the general public. Premature disclosure of the secure test items and materials would compromise the integrity and substantially impede implementation of the secure NAEP assessments and is therefore protected by exemption 9(B) of section 552b(c) of Title 5 of the United States Code.

The Committee on Standards, Design and Methodology (COSDAM) will meet in open session from 9:30 a.m. to 10:45 a.m. and thereafter in closed session from 10:45 a.m. to 11:50 a.m., followed by an open session from 11:50 a.m. to 12:00 p.m. During the closed session, COSDAM members will receive an embargoed technical briefing on preliminary results of the linking study at grade 8 in mathematics and science. The linking study was conducted in 2012 between NAEP and the Trends in International Mathematics and Science (TIMSS) assessments. These data have not yet been released and therefore cannot be disclosed to the general public at this time. Premature disclosure of these secure data would significantly impede implementation of the NAEP and TIMSS assessments and reporting, and is therefore protected by exemption 9(B) of section 552b(c) of Title 5 U.S.C.

Following the Committee meetings, on November 30, 2012 from 12:15 p.m. to 1:45 p.m. the full Board will meet in closed session to receive two briefings—a linking study of NAEP and TIMSS, and results of the Mathematics Curriculum Study. For the NAEP/TIMSS linking study, the Board will receive an embargoed briefing on preliminary results. For the mathematics curriculum study, the Board will receive an embargoed briefing on the results from the 2005 High School Transcript Mathematics Curriculum Study of 12th graders. The briefings will include secure test items, embargoed assessment data, and results that cannot be discussed in an open meeting prior to their official release. Premature disclosure of these results would significantly impede implementation of the NAEP and TIMSS assessment program, and is therefore protected by exemption 9(B) of section 552b(c) of Title 5 United States Code.

After the November 30 closed general session, the Board will meet in open session. From 2:00 p.m. to 2:45 p.m., the Board will receive the annual briefing on the Governing Board and Council of Chief State School Officers (CCSSO) Policy Task Force. From 2:45 p.m. to 3:30 p.m., the Board will receive a demonstration of the online Grade 12 Preparedness Technical Report and a briefing on plans for future research studies. Thereafter, from 3:45 p.m. to 4:15 p.m., Board members will receive their annual ethics briefing from the Office of General Counsel. The November 30, 2012 Board meeting is scheduled to adjourn at 4:15 p.m.

On December 1, 2012, the Nominations Committee will meet in closed session from 7:15 a.m. to 8:15 a.m. to discuss potential candidates for Board terms beginning October 1, 2013. The Committee discussions pertain solely to internal personnel rules and practices of an agency and information of a personal nature where disclosure would constitute an unwarranted invasion of personal privacy. As such, the discussions are protected by exemptions 2 and 6 of section 552b(c) of Title 5 of the United States Code.

On December 1, 2012 from 8:30 a.m. to 10:00 a.m. the full Board will receive a demonstration of computer-based tasks and test materials for the NAEP 2014 Technology and Engineering Literacy (TEL) Assessment at grade 8. During this closed session, Board members will be provided with specific test materials for review which are not yet available for release to the general public. Premature disclosure of these secure test items and materials would compromise the integrity and substantially impede implementation of the NAEP assessment and is therefore protected by exemption 9(B) of section 552b(c) of Title 5 of the United States Code.

Following this closed session, the full Board will meet in open session to discuss its ongoing work on Making a Difference Initiatives which includes plans for the 2013 Education Summit for Parent Leaders. From 10:45 a.m. to 12:00 p.m. the Board will receive Committee reports and take action on Committee recommendations. The December 1, 2012 meeting is scheduled to adjourn at 12:00 p.m.

A verbatim transcript of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC, area at (202) 512-0000. Note: The official version of this document is the document published in the Federal Register. Free Internet access to the official edition of the Federal Register and the Code of Federal Regulations is available on GPO Access at: www.gpoaccess.gov/nara/index.html.

Dated: November 16, 2012.
Cornelia Orr,
Executive Director, National Assessment Governing Board (NAGB), U. S. Department of Education.

[FR Doc. 2012-28314 Filed 11-20-12; 8:45 am]

BILLING CODE 4000-01-P